DEPARTMENT OF STATE

[Public Notice 5754]

Shipping Coordinating Committee; Notice of Meeting

The Shipping Coordinating Committee (SHC) will conduct an open meeting at 9:30 a.m. on Wednesday, June 20, 2007, in Room 2415 of the United States Coast Guard Headquarters Building, 2100 2nd Street, SW., Washington, DC 20593-0001. The primary purpose of the meeting is to prepare for the 56th Session of the International Maritime Organization (IMO) Marine Environment Protection Committee (MEPC) to be held at The Royal Horticultural Halls and Conference Centre in London, England from July 9th to 13th, 2007.

The primary matters to be considered include:

— Harmful aquatic organisms in ballast water;

— Recycling of ships;

— Prevention of air pollution from ships;

— Consideration and adoption of amendments to mandatory instruments;

— Implementation of the International Convention on Oil Pollution Preparedness, Response and Cooperation (OPRC) Convention and the OPRC-Hazardous Noxious Substance (OPRC-HNS) Protocol and relevant conference resolutions;

— Identification and protection of Special Areas and Particularly Sensitive Sea Areas;

— Inadequacy of reception facilities;

— Reports of sub-committees;

— Work of other bodies;

— Status of Conventions;

— Harmful anti-fouling systems for ships;

— Promotion of implementation and enforcement of MARPOL 73/78 and related instruments;

— Follow-up to United Nations Conference on Environment and Development and World Summit on Sustainable Development;

— Technical co-operation program;

— Role of the human element;

— Formal safety assessment;

— Work program of the Committee and subsidiary bodies;

— Application of the Committees' Guidelines; and

— Consideration of the report of the Committee.

Please note that hard copies of documents associated with MEPC 56 will not be available at this meeting. Documents will be available in Adobe Acrobat format on CD-ROM. To request documents please write to the address provided below, or request documents via the following Internet link: http://www.uscg.mil/hq/g-m/mso/IMOMEPC.htm.

Members of the public may attend this meeting up to the seating capacity of the room. Interested persons may seek information by writing to Lieutenant Heather St. Pierre, Commandant (CG-3PSO-4), U.S. Coast Guard Headquarters, 2100 Second Street, SW., Room 1601, Washington, DC 20593-0001 or by calling (202) 372-1432.

Dated: April 3, 2007.
Michael E. Tousley,
Executive Secretary, Shipping Coordinating Committee, Department of State.

[FR Doc. E7-6864 Filed 4-11-07; 8:45 am]

BILLING CODE 4710-09-P